DEPARTMENT OF LABOR

Employment and Training Administration

[NAFTA-05503]

Telair International Air Cargo Equipment, Rancho Domingez, California; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on April 3, 2002, applicable to workers of Telair International, Rancho Domingez, California. The notice was published in the Federal Register on April 17, 2002 (67 FR 18924).

At the request of the State agency, the Department reviewed the certification for workers of the subject firm. The workers are engaged in the production of air cargo containers and hardware. New information shows that Air Cargo Equipment purchased Telair International in May, 2001.

Information also shows that workers separated from employment at the subject firm had their wages reported under a separate unemployment insurance (UI) tax account for Air Cargo Equipment.

Accordingly, the Department is amending the certification to properly reflect this matter.

The intent of the Department's certification is to include all workers of Telair International, Rancho Domingez, California who were adversely affected by a shift of production of air cargo containers and hardware to Mexico.

The amended notice applicable to NAFTA-05503 is hereby issued as follows:

All workers of Telair International, Air Cargo Equipment, Rancho Domingez, California, who became totally or partially separated from employment on or after October 25, 2000, through April 3, 2004, are eligible to apply for NAFTA-TAA under Section 250 of the Trade Act of 1974.

Signed at Washington, DC this 25th day of July, 2002.
Edward A. Tomchick,
Director, Division of Trade Adjustment Assistance.

[FR Doc. 02-19959 Filed 8-6-02; 8:45 am]

BILLING CODE 4510-30-P